DEPARTMENT OF COMMERCE

National Oceanic and Atmospheric Administration

[I.D. 031306C]

New England Fishery Management Council; Public Meeting

AGENCY: National Marine Fisheries Service (NMFS), National Oceanic and Atmospheric Administration (NOAA), Commerce.

ACTION: Notice; public meeting.

SUMMARY: The New England Fishery Management Council's (Council) VMS/Enforcement Oversight Committee will meet to consider actions affecting New England fisheries in the exclusive economic zone (EEZ).

DATES: The meeting will be held on Monday, April 3, 2006 from 7 p.m. to 9 p.m.

ADDRESSES: Meeting address: The meeting will be held at the Hilton Mystic Hotel, 20 Coogan Boulevard, Mystic, CT 06355; telephone: (860)572-0731.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

1. Discuss information with respect to enforcement techniques used to measure mesh size, and make recommendations to the Council at its April 4-5, 2006 meeting.

2. Other business.

Although non-emergency issues not contained in this agenda may come before this group for discussion, those issues may not be the subject of formal action during this meeting. Action will be restricted to those issues specifically identified in this notice and any issues arising after publication of this notice that require emergency action under section 305 of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 13, 2006.
Tracey L. Thompson,
Acting Director, Office of Sustainable Fisheries, Natinal Marine Fisheries Service.

[FR Doc. E6-3836 Filed 3-16-06; 8:45 am]

BILLING CODE 3510-22-S